CONSUMER PRODUCT SAFETY COMMISSION

Proposed Collection; Comment Request—Residential Fire Survey

AGENCY: Consumer Product Safety Commission.

ACTION: Notice.

SUMMARY: As required by the Paperwork Reduction Act of 1995 (44 U.S.C. chapter 35), the Consumer Product Safety Commission (CPSC) requests comments on a proposed survey to evaluate (1) the causes of residential fires and (2) the role of smoke alarms, sprinklers, and fire extinguishers in those fires. The study will consist of a random digit dialing (RDD) telephone survey to identify households that had a fire within the previous three months. The survey will include both fires reported to the fire service and those not reported. Data collection will take place over a 12-month period and will identify consumer products involved in fire causes. The information will help CPSC and its federal partners, the U.S. Fire Administration and the Centers for Disease Control and Prevention, to focus efforts to reduce residential fire losses. CPSC will consider all comments received in response to this notice before requesting approval for this telephone survey from the Office of Management and Budget.

DATES: Written comments must be received by the Office of the Secretary not later than June 16, 2003.

ADDRESSES: Written comments should be captioned “Residential Fire Survey” and mailed to the Office of the Secretary, Consumer Product Safety Commission, Washington, DC 20207, or delivered to the attention of that office, room 419, North Tower, 4330 East-West Highway, Bethesda, Maryland, 20814. Written comments may also be sent to the Office of the Secretary by facsimile at (301) 504-0127 or by e-mail at cpsc-os@cpsc.gov.

FOR FURTHER INFORMATION CONTACT: For information about the proposed collection of information, or to obtain a copy of the questions to be used for this collection of information, call or write Linda E. Smith, Division of Hazard Analysis, Directorate for Epidemiology, U.S. Consumer Product Safety Commission, 4330 East-West Highway, Bethesda, MD 20814 telephone (301) 504-7310, or email lsmith@cpsc.gov.

SUPPLEMENTARY INFORMATION:

A. Background

Reduction of fire deaths is one of CPSC's strategic goals. An estimated 396,500 residential fires were attended by the fire service in 2001 and resulted in 3,140 deaths, 15,575 injuries, and $5.6 billion in property loss. Although residential fire losses have decreased greatly over the past 15 years, the U.S. continues to have one of the highest fire death rates per capita in the world.

One of the reasons for the observed reduction in fire deaths is thought to be the increased prevalence of smoke alarms, which are intended to give early warning of a fire and allow more time for the occupants to escape unharmed. Since 1984 when CPSC last conducted a survey of residential fires, the prevalence of smoke alarms in U.S. households has greatly increased. Prevalence, however, does not mean that the alarms will be operational. In 1992, a CPSC study of smoke alarms installed in residences showed that among households that had smoke alarms, 20 percent of the households had no alarms that worked. Changes continue to be made to smoke alarm technology and installation requirements with the intent of increasing the number of households with an adequate number of working alarms.

In 1984, it was estimated that fires that were not attended by the fire service accounted for 97 percent of all U.S. residential fires. CPSC and its fire partners wish to determine the current magnitude of the overall fire problem, including the prevalence of fires both attended and unattended by the fire service. In addition, CPSC wishes to learn if there has been a further reduction in the percentage of fires that are serious enough to warrant the attendance of the fire service, and the extent to which the involvement of smoke alarms has contributed to the reduced number of such fires.

The reduction of fire deaths, the most severe result of residential fires, is part of a collaborative effort by CPSC, the U.S. Fire Administration, and the Centers for Disease Control and Prevention. The resulting data are expected to provide statistically-based support and focus for integrated national programs, including the benefits derived by the use of smoke alarms, sprinklers, and fire extinguishers. The resulting data also will provide current estimates of all residential fires that involve specific types of consumer products, providing more comprehensive fire data upon which to target prevention activities.

B. Description of the Collection of Information

This collection of information will consist of a random digit dialing (RDD) telephone survey. Use of RDD will result in a probability sample of all U.S. households, ensuring that the estimates will be representative of the U.S. population. Selected high-risk subsets of the population will be over-sampled to ensure that the fire problem in those groups can be adequately characterized. These include rural households, and low socioeconomic households. Data collection will take place over a 12-month period to account for variation in the number and causes of fire that occur over the course of a year.

The intention of the survey is to contact both households that have experienced a fire during the previous 3 months and households that have not experienced a fire. Demographic data on fire and non-fire households will be collected so that fire risk can be calculated for different demographic groups.

Households that have had fires will be asked about the cause of the fire, the products involved in starting the fire, and the items that burned. Information about the severity of the fire will be collected, including deaths, non-fatal injuries, medical treatment, property damage, and whether the fire was attended by the fire service. Information will be obtained on the number, characteristics, and performance of smoke alarms. CPSC is particularly interested in obtaining information on the role of the smoke alarm in warning the occupants that there was a fire. Information also will be obtained on the presence and performance of fire sprinklers and fire extinguishers.

A contractor will conduct a cognitive pre-test of the telephone questionnaire using a Computer-Assisted Telephone Interviewing (CATI) program. Revisions to the CATI programming will be made based on the pretest. Data collection for the survey will be conducted over a one-year period. The contractor will then review and edit the data and construct a database for CPSC analysis.

C. Burden on Respondents

Households will be screened using RDD methodology to identify 1,500 households who have had a fire within the previous three months. The estimated incidence of fire households is approximately 2.5%. Screening to identify household qualification is expected to take an average of approximately 2 minutes. It is estimated that the study will require screening of 86,680 households to yield 1,500 qualified, cooperative respondents.

The interview with fire households is estimated to take an average of 22 minutes to administer over the telephone. In addition, a sub-sample of 2,000 non-fire households will be interviewed using a 6-minute demographic survey.

Given these estimates, the burden on respondents is calculated to be:

• 86,680 screening interviews @ 2 minutes = 173,360 minutes;

• 1,500 interviews with fire households @ 22 minutes = 33,000 minutes; and

• 2,000 interviews with non-fire households @ 6 minutes = 12,000 minutes,

for a total of 218,360 minutes, or 3,639.3 interviewing hours of burden for respondents. The staff estimates that the annualized cost to respondents for the hour burden for the collection of information is $85,305, based on $23.44 per hour (September 2002 Bureau of Labor Statistics, Department of Labor cost for employee compensation, private industry, state and local government.)

D. Requests for Comments

The Commission solicits written comments from all interested persons about the proposed survey to determine residential fire cause and smoke alarm performance. The Commission specifically seeks information relevant to the following topics:

• Whether the survey described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: April 9, 2003.
Todd Stevenson,
Secretary, Consumer Product Safety Commission.

[FR Doc. 03-9256 Filed 4-15-03; 8:45 am]

BILLING CODE 6355-01-P